DEPARTMENT OF THE INTERIOR

Fish and Wildlife Service

[FWS-HQ-NWRS-2020-N145; FF09R81000; OMB Control Number 1018-New]

Agency Information Collection Activities; U.S. Fish and Wildlife Service Agreements With Friends Organizations

AGENCY: Fish and Wildlife Service, Interior.

ACTION: Notice of information collection; request for comment.

SUMMARY: In accordance with the Paperwork Reduction Act of 1995, we, the U.S. Fish and Wildlife Service (Service), are proposing a new information collection in use without an OMB control number.

DATES: Interested persons are invited to submit comments on or before January 8, 2021.

ADDRESSES: Send your comments on the information collection request (ICR) by mail to the Service Information Collection Clearance Officer, U.S. Fish and Wildlife Service, MS: PRB (JAO/3W), 5275 Leesburg Pike, Falls Church, VA 22041-3803 (mail); or by email to Info_Coll@fws.gov. Please reference OMB Control Number “1018-Friends” in the subject line of your comments.

FOR FURTHER INFORMATION CONTACT: To request additional information about this ICR, contact Madonna L. Baucum, Service Information Collection Clearance Officer, by email at Info_Coll@fws.gov, or by telephone at (703) 358-2503. Individuals who are hearing or speech impaired may call the Federal Relay Service at 1-800-877-8339 for TTY assistance.

SUPPLEMENTARY INFORMATION: In accordance with the Paperwork Reduction Act (PRA, 44 U.S.C. 3501 et seq.) and its implementing regulations at 5 CFR 1320, all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Service enters into agreements and partnerships with nonprofit Friends groups to facilitate and formalize collaboration between the parties in support of mutual goals and objectives as authorized by:

• The Fish and Wildlife Act of 1956 (16 U.S.C. 742a-742j);

• The National Wildlife Refuge System Administration Act of 1966 (16 U.S.C. 668dd-ee), as amended;

• The Refuge Recreation Act of 1962 (16 U.S.C. 460k et seq.), as amended;

• The Anadromous Fish Conservation Act (16 U.S.C. 757a-757g), as amended;

• The Fish and Wildlife Coordination Act of 1934 (16 U.S.C. 661-667e), as amended;

• The National Wildlife Refuge System Volunteer and Community Partnership Enhancement Act of 1998 (16 U.S.C. 742f), as amended; and

• The National Fish Hatchery System Volunteer Act of 2006 (16 U.S.C. 760aa), as amended.

The Service utilizes a standardized agreement which describes the substantial involvement of both parties in mutually agreed-upon activities and ensures that both parties have a mutual understanding of their respective roles, responsibilities, rights, expectations, and requirements within the partnership. The agreement, pre-approved by the Department of the Interior (DOI) Office of the Solicitor, provides the suggested language common to most Service Friends partnerships. The content is based on DOI and Service policies, but the Friends and Service sites/programs may thoughtfully add and delete certain language to meet their varying partnership roles and responsibilities wherever Department and Service policies do not dictate otherwise. We also use a supplemental partnership agreement for use of Service property, which provides additional terms and responsibilities beyond the general terms of the partnership agreement and is required only for those Friends groups that use Service land, facilities, or equipment.

The partnership agreement and supplemental agreement are effective for 5 years, with four annual modification options during the 5-year period of performance. Each time the agreement is up for its 5-year renewal, the Refuge or Fish Hatchery Project Leader and the Friends President or Board will meet to review, modify, and sign the agreement as described above. To become effective, the Regional Director (or designee) must review, approve, and sign a new agreement every 5 years.

In addition to the partnership agreement and supplemental agreement, and subsequent renewals of the agreements, the Service collects the following information in conjunction with the administration of the Friends Program:

• Basic program information documentation, to include documents such as Internal Revenue Service (IRS) determination letters recognizing an organization as tax exempt, submission of IRS Form 990-series forms, bylaws, articles of incorporation, etc.;

• Internal financial control documentation for the organization;

• Recordkeeping requirements documenting accountability for donations and expenditures;

• Assurance documentation that donations, revenues, and expenditures benefit the applicable refuge or hatchery;

• Resumes of potential Friends group staff selected to work in visitor centers;

• Annual performance reporting (donations, revenues, and expenditures) and number of memberships (if applicable); and

• Additional information that may be included as part of quarterly, annual, and in-depth program reviews.

Over the life of this clearance, the Service plans to develop a digital platform and process to collect information directly from Friends groups. Until that occurs, Friends groups will submit information through form and non-form responses.

The Service uses the information collected to establish efficient and effective partnerships and working relationships with nonprofit Friends organizations. The agreements provide a method for the Service to legally accept donations of funds and other contributions by people and organizations through partnerships with nonprofit (and non-Federal) Friends organizations.

Title of Collection: U.S. Fish and Wildlife Service Agreements with Friends Organizations.

OMB Control Number: 1018-New.

Form Number: None.

Type of Review: Existing collection in use without an OMB control number.

Respondents/Affected Public: Private sector (nonprofit organizations).

Respondent's Obligation: Required to obtain or retain a benefit.

Frequency of Collection: On occasion for agreements and associated documentation requirements. Annually for performance reports.

Total Estimated Annual Nonhour Burden Cost: None.

Requirement | Average number of annual respondents | Average number of responses each | Average number of annual responses | Average completion time per response (hours) | Estimated annual burden hours
Partnership Agreement:
Private Sector | 50 | 1 | 50 | 40 | 2,000
Renewal of Partnership Agreement:
Private Sector | 150 | 1 | 150 | 8 | 1,200
Supplemental Agreement:
Private Sector | 50 | 1 | 50 | 4 | 200
Renewal of Supplemental Agreement:
Private Sector | 150 | 1 | 150 | 2 | 300
Basic Program Documentation:
Private Sector | 200 | 1 | 200 | 8 | 1,600
Internal Financial Control Documentation:
Private Sector | 200 | 1 | 200 | 40 | 8,000
Donation and Expenditure Recordkeeping Requirements:
Private Sector | 200 | 1 | 200 | 20 | 4,000
Assurance Documentation:
Private Sector | 200 | 1 | 200 | 40 | 8,000
Friends Group Staff Resumes:
Private Sector | 25 | 1 | 25 | 8 | 200
Annual Performance Reports:
Private Sector | 200 | 1 | 200 | 20 | 4,000
Supplemental Documentation Requirements: Quarterly Review:
Private Sector | 200 | 4 | 800 | 2 | 1,600
Supplemental Documentation Requirements: Annual Review:
Private Sector | 10 | 1 | 10 | 20 | 200
Totals | 1,635 |  | 2,235 |  | 31,300

An agency may not conduct or sponsor and a person is not required to respond to a collection of information unless it displays a currently valid OMB control number.

The authority for this action is the Paperwork Reduction Act of 1995 (44 U.S.C. 3501 et seq.).

Dated: November 4, 2020.
Madonna Baucum,
Information Collection Clearance Officer, U.S. Fish and Wildlife Service.

[FR Doc. 2020-24802 Filed 11-6-20; 8:45 am]

BILLING CODE 4333-15-P